DEPARTMENT OF ENERGY

Bonneville Power Administration

Klickitat Hatchery Program

AGENCY: Bonneville Power Administration (BPA), Department of Energy (DOE).

ACTION: Notice of intent to prepare an Environmental Impact Statement (EIS) and a floodplain and wetland assessment.

SUMMARY: BPA intends to prepare an EIS in accordance with the National Environmental Policy Act (NEPA) on funding proposed changes to the existing salmon and steelhead hatchery program in the Klickitat subbasin in Klickitat and Yakima counties, Washington. As mitigation under the Pacific Northwest Electric Power Planning and Conservation Act, BPA proposes to upgrade and improve the Klickitat Hatchery, a Mitchell Act artificial production facility built and funded by the National Oceanic and Atmospheric Administration Fisheries (NOAA Fisheries), located seven miles east of Glenwood, Washington, at river mile 42 of the Klickitat River. The proposed changes would also involve construction, of a new Wahkiacus Hatchery and Acclimation Facility located at river mile 17 on the Klickitat River in Wahkiacus, Washington, and a steelhead acclimation facility at McCreedy Creek at river mile 70. With this Notice of Intent, BPA is initiating the public scoping process for the EIS. BPA is requesting comments about potential environmental impacts that it should consider as it prepares the EIS for the proposed changes to the program, as well as comments on alternatives that meet fish production objectives for the Klickitat Hatchery Program. Further details are provided in the SUPPLEMENTARY INFORMATION section below.

In accordance with DOE regulations for compliance with floodplain and wetlands environmental review requirements, BPA will prepare a floodplain and wetlands assessment to avoid or minimize potential harm to or within any affected floodplains and wetlands. The assessment will be included in the EIS.

DATES: Written scoping comments are due to the address below no later than August 18th, 2009. Comments may also be made at the EIS scoping meeting to be held on August 4th, 2009, from 6 p.m. to 8:30 p.m. at the Lyle Community Center.

ADDRESSES: Send letters with comments and suggestions on the proposed scope of the Draft EIS, and requests to be placed on the project mailing list, to Bonneville Power Administration, Public Affairs Office—DKE-7, P.O. Box 14428, Portland, OR 97293-4428, or by fax to 503 230-3285. You also may call BPA's toll free comment line at 800 622-4519 and leave a message (please include the name of this project); or submit comments online at http://www.bpa.gov/comment. BPA will post all comment letters in their entirety on BPA's Web site at http://www.bpa.gov/comment.

On Tuesday August 4th, 2009, an open-house scoping meeting will be held from 6 p.m. to 8:30 p.m. at the Lyle Community Center, Lyle, Washington. At this informal meeting, we will provide maps and other information about the project and have members of the project team available to answer questions and accept oral and written comments. You may stop by anytime during the open house.

FOR FURTHER INFORMATION CONTACT: Rosy Mazaika, Environmental Coordinator, Bonneville Power Administration—KEC-4, P.O. Box 3621, Portland, Oregon 97208-3621; toll-free telephone 1-800-282-3713; direct telephone 503-230-5869; or e-mail rxmazaika@bpa.gov. You may also contact Patricia Smith, Project Manager, Bonneville Power Administration—KEWL-4, P.O. Box 3621, Portland, Oregon 97208-3621; toll-free telephone 1-800-282-3713; direct telephone 503-230-7349; or e-mail prsmith@bpa.gov. Additional information can be found at BPA's Web site: http://www.efw.bpa.gov.

SUPPLEMENTARY INFORMATION: Fisheries programs in the Klickitat River subbasin are co-managed by the Yakama Nation and the Washington Department of Fish and Wildlife (WDFW), and include the Yakima/Klickitat Fisheries Project (YKFP) funded by BPA. The YKFP uses state-of-the-art artificial propagation methods designed to re-establish, supplement, or increase natural production and harvest opportunities of anadromous salmonids while maintaining the long-term fitness of target species and minimizing ecological and genetic impacts on non-target species. The YKFP has been developed to:

• Enhance existing stocks of anadromous fish in the Yakima and Klickitat river basins, while maintaining genetic and ecological resources; and

• Apply the knowledge gained through supplementation throughout the Columbia River Basin.

The YKFP also pursues the protection and restoration of habitat important to health and restoration of anadromous fish stocks.

Under the YKFP, in 2008, the Yakama Nation revised the Klickitat River Anadromous Fisheries Master Plan ¹ in response to comments from the Northwest Power and Conservation Council (NPCC) and its Independent Scientific Review Panel.² Master plans are submitted as step one of the NPCC's three-step process ³ for the review of artificial propagation project proposals for funding by the BPA. Included in the plan are details and the scientific basis for proposed production goals, facilities, monitoring and evaluation, and habitat improvements necessary to manage endemic spring Chinook and steelhead and hatchery coho and fall Chinook in the Klickitat subbasin. Because

¹ http://www.nwcouncil.org/dropbox/YKFP_03-31-08%20Draft%20Master%20Plan.pdf.

² http://www.nwppc.org/library/isrp/isrp2008-6.pdf.

³ Northwest Power and Conservation Council, Three-Step Review Process (Nov. 2006) http://www.nwcouncil.org/Library/2006/2006-21.pdf.

1. The facilities and habitat work are proposed to benefit more than one target species,

2. Artificial production work will require BPA and NOAA Fisheries to coordinate efforts at the proposed various facilities, and

3. Proposed changes to production practices for single species could affect other target species,

the Yakama Nation developed the Klickitat Subbasin Anadromous Fishery Hatchery Plan (“Master Plan”) to address all species, as well as Pacific lamprey.

According to the master plan prepared by the Yakama Nation and WDFW, the existing Klickitat Hatchery facilities, completed in 1954, need repair to meet current building codes and up-to-date artificial production guidelines. The Tribe operates the Klickitat Hatchery and NOAA Fisheries provides annual operation and maintenance funding using appropriations to the Mitchell Act program. Under the 2008 Columbia Basin Fish Accords Memorandum of Agreement between the three Treaty Tribes and Federal Columbia River Power System Action Agencies (The Accords) ⁴ the Yakama Nation will actively seek congressional appropriations during fiscal years 2010 and 2011 for additional Mitchell Act funding for the new Wahkiacus facility. Under the Accords, BPA made funding available, pending satisfactory results from its environmental compliance efforts, to fund hatchery facility improvements to increase production in the Klickitat Basin as described in alternative one below.

⁴ http://www.salmonrecovery.gov/Biological_opinions/FCRPS/2008_biop/docs/3-tribe-AA-MOA-Final.pdf.

The master plan was developed in concert with salmonid production and harvest agreements pursuant to U.S. v. Oregon, which is the primary forum for decisions related to salmon and steelhead fisheries management for the Columbia River Basin. U.S. v. Oregon is landmark litigation over Indian treaty fishing rights. The Federal district court that initially decided the case has retained continuing jurisdiction to assure the development of harvest and production plans follow the court's decisions. Through the on-going U.S. v. Oregon process, the parties develop and update the Columbia River Fish Management Plan which addresses management of Chinook, coho, and steelhead in the Klickitat basin, including hatchery production at the Klickitat Hatchery. Current programs focus on harvest augmentation for coho and fall Chinook and on supplementation for spring Chinook and summer steelhead.

The proposed Yakama Nation- Klickitat Hatchery Program EIS would respond to these master plan objectives. BPA, therefore, will prepare an EIS under NEPA to assist the agency as it decides whether to fund the proposed changes to the existing salmon and steelhead hatchery program in the Klickitat subbasin and, if a decision is made to fund the changes, which alternative to meet the master plan objectives should be chosen.

Alternatives Proposed for Consideration. BPA will consider three action alternatives to meet master plan objectives for salmon and steelhead in the Klickitat Basin. One alternative, the Master Plan, would involve the fisheries managers increasing the production of Klickitat spring Chinook and steelhead at the existing Klickitat Hatchery and transferring artificial production of coho and fall Chinook to a new hatchery facility at Wahkiacus. This would free up water and space at the Klickitat Hatchery, ensuring optimal rearing densities for spring Chinook and summer steelhead at that facility. Transferring coho and fall Chinook production downstream would minimize the impact of these species on the spawning and rearing of wild spring Chinook and steelhead by reducing species interactions and competition for habitat in the 26.5-mile reach between Wahkiacus and Klickitat. A second alternative would evaluate meeting the same production objectives but at the Klickitat Hatchery alone. A third alternative would examine a phased approach to the proposed production changes, with a partial build-out at the Wahkiacus facility. The current Wahkiacus facility design provides for acclimation of up to 1,000,000 coho pre-smolts and rearing and release of up to 2,000,000 fall Chinook. The partial build-out would consider a phased approach for accomplishing production objectives, with the associated phasing of the completion of project facilities. BPA will also consider a No-Action Alternative. Under the No-Action Alternative, production activities would continue as they do currently. Other alternatives may be identified through the scoping process.

BPA will be the lead agency for preparation of the EIS. BPA will formally invite the Yakama Nation, WDFW, NOAA Fisheries, Klickitat County, and Washington Department of Ecology to be cooperating agencies for the proposed Yakama Nation-Klickitat Hatchery Program EIS. Other potential cooperating agencies may be identified as the proposed project proceeds through the NEPA process. BPA will also coordinate with NOAA Fisheries which is preparing a programmatic EIS on the Mitchell Act hatchery facilities it funds throughout the Columbia River Basin.⁵

⁵ http://www.nwr.noaa.gov/Salmon-Harvest-Hatcheries/Hatcheries/Mitchell-Act-EIS.cfm.

Public Participation and Identification of Environmental Issues. The potential environmental issues identified for the project are anticipated to include land use, socioeconomic concerns, cultural resources, visual resources, sensitive plants and animals, fisheries, soil erosion, wetlands, floodplains, water quality, water quantity, wild and scenic rivers, and recreation resources. BPA has established a 45-day scoping period during which tribes, affected landowners, concerned citizens, special interest groups, local governments, Federal agencies, and any other interested parties are invited to comment on the scope of the proposed EIS. Scoping will help BPA ensure that a full range of issues related to this proposal is addressed in the EIS, and also will identify significant or potentially significant impacts that may result from the proposed project. When completed, the Draft EIS will be circulated for review and comment, and BPA will hold at least one public meeting to hear comments. The Draft EIS is expected to be published in fall 2010. BPA will consider and respond to comments received on the Draft EIS in the Final EIS. The Final EIS is expected to be published in spring 2011. BPA's decision will be documented in a Record of Decision that will follow the Final EIS.

Issued in Portland, Oregon, on July 10, 2009.
Stephen J. Wright,
Administrator and Chief Executive Officer.

[FR Doc. E9-17034 Filed 7-16-09; 8:45 am]

BILLING CODE 6450-01-P